DEPARTMENT OF AGRICULTURE

Forest Service

RIN 0596-AB67

National Forest System Road Management

AGENCY: Forest Service, USDA.

ACTION: Notice; overview of proposals.

SUMMARY: The Forest Service has concluded that it must thoroughly review its forest road system policy. This action is necessary to ensure that the road system, which is one of four emphasis areas in the agency's Natural Resource Agenda, meets current and future management objectives for National Forest System lands; provides for safe public use; allows for economical and efficient management within likely budget levels; and, to the extent practicable, causes minimum adverse environmental impacts. Accordingly, the Forest Service gives notice of proposed revisions to its transportation system rules at 36 CFR part 212 and of proposed corollary revisions to Forest Service administrative directives. Both notices are published separately in this part of today's Federal Register.

The Forest Service invites written comments on these documents and will consider those comments in development of the final rule and final administrative policy that the agency will publish in the Federal Register.

DATES: Comments must be received in writing by May 2, 2000.

ADDRESSES: Send written comments to USFS CAET, Attention: Roads, P.O. Box 221090, Salt Lake City, UT 84122 or to roads/wo_caet-slc@fs.fed.us.

All comments received, including names and addresses when provided, are placed in the record and are available for public inspection and copying at Forest Service headquarters, 201 14th Street SW, Washington, D.C. 20250. Persons wishing to inspect the comments are encouraged to call 202-205-1400 to facilitate building entrance.

FOR FURTHER INFORMATION CONTACT: Heidi Valetkevitch, Office of Communication, 202-205-0914.

SUPPLEMENTARY INFORMATION:

Background

Few natural resource issues in recent years have attracted as much public scrutiny as the management of the Forest Service road system. Forest roads can have adverse impacts on watersheds, especially if poorly maintained. Few marks on the land are more lasting than roads. Yet, forest roads are essential for forest use and often serve as the backbone of rural transportation networks.

The estimated 380,000 miles of classified Forest Service roads on National Forest System lands are extensive and diverse. Most of the existing road system was built over the last 50 years for timber harvest and log removal. In the decades after World War II, logging traffic tripled, peaking in 1990. But when timber harvests on the national forests declined in the 1990's, logging traffic fell to 1950 levels. By contrast, recreation forest road use has grown to 13 times its 1950 rate. Driving for pleasure is the single largest recreational use of Forest Service managed lands, constituting 35.8 percent of all recreation in 1996. In summer, recreation drivers on the national forests account for 13.6 million vehicle-miles per day. The outlook is for recreational road use to grow by an additional 64 percent by the year 2045.

Managers today must wrestle with many complicated forest road issues.

Environmental damage. The negative effects on the landscape of constructing new roads, deferring maintenance, and decommissioning old roads are well documented. Unwanted or non-native plant species can be transported on vehicles and clothing by users of roads, ultimately displacing native species. Roads may fragment and degrade habitat for wildlife species and eliminate travel corridors of other species. Poorly designed or maintained roads promote erosion and landslides, degrading riparian and wetland habitat through sedimentation and changes in streamflow and water temperature, with associated reductions in fish habitat and productivity. Also, roads allow people to travel into previously difficult or impossible to access areas, resulting in indirect impacts such as ground and habitat disturbance, increased pressure on wildlife species, increased litter, sanitation needs and vandalism, and increased frequency of human-caused fires.

Substandard roads. Many roads on the national forests do not meet current standards for safety and environmental protection. Many of these are classified roads that have not been properly maintained for a variety of reasons. Some were crudely pioneered by early settlers. Others were planned for temporary access but never closed. Still others evolved from tracks made by off-road vehicles. Due to their haphazard nature, unclassified roads have far more adverse impacts on the environment than do permanent, properly planned forest roads that are well engineered and maintained. While the agency estimates more than 60,000 miles of unauthorized, unplanned, and temporary roads exist on National Forest System lands, a complete inventory of unclassified roads is needed to identify roads which should be decommissioned.

Roadless areas. The National Forest System has more than 50 million acres of inventoried roadless areas. These areas were inventoried through a national roadless area review in the 1970's (RARE II) or through subsequent regional and local forest planning activities. A further refinement of roadless area acres may occur through the agency's roadless initiative begun October 19, 1999. Because building a road in a roadless area often has an irreversible impact, the public debate over road building and other uses of these roadless areas has persisted. Through public participation in forest planning and project-level proposals, through appeals and litigation, as well as through public forums over the last decade, the Forest Service has witnessed the increasingly strong public sentiment that new roads should not be built in the remaining roadless areas. Nevertheless, many others believe that these areas should be available for a wide variety of uses, including road construction.

Additional facts related to the nature and scope of the Forest Service road system, public demand, funding, and the environmental impacts of roads are in Appendix A at the end of this notice.

The shift in public use of national forests and changes in user expectations require new approaches to deciding the appropriate extent, use, and standards of the Forest Service road system. Current funding is inadequate to maintain all Forest Service roads to their intended safety, service, and environmental standards. Therefore, to continue to effectively manage the Forest Service road system, the agency must carefully consider the extent of the system and applicable safety, service, and environmental standards, as well as explore new funding sources.

On January 28, 1998, in an Advance Notice of Proposed Rulemaking (63 FR 4350), the Forest Service announced its intent to revise regulations concerning management of the national forest transportation system. Simultaneously, the Forest Service published a proposed interim rule (63 FR 4351) to temporarily suspend permanent and temporary road construction and reconstruction in certain unroaded areas of National Forest System lands. The purpose of the interim rule was to take a “timeout” for 18-months while the Forest Service developed a revised road management policy and analytical tools to provide a more ecological approach to existing and future road needs.

A final interim rule, issued on February 12, 1999 (64 FR 7289), temporarily suspended permanent and temporary road construction and reconstruction in certain unroaded areas of National Forest System lands. The temporary suspension is in effect until development of a revised Forest Service road system policy, or 18 months from the effective date of the interim final rule, whichever is sooner.

In spring 1999, the Forest Service conducted focus group meetings for input from various segments of the public and Forest Service employees to gather detailed ideas about the development of the agency's revised road policy. Led by a facilitator from outside the agency, the focus groups contributed the views of specific interested groups, including employees, regarding roads and transportation on public lands. These ideas were considered along with the wide range of public comments received in response to the Advanced Notice and the proposed interim rule (over 164,000) in developing the proposed long-term road management rule and policy published in this part.

A summary of the information the Forest Service received from the focus group sessions is available at www.fs.fed.us/news/roads. A complete summary of the analysis of public comments on the Advanced Notice of Proposed Rulemaking is found in “Proposed Rulemaking on Administration of the Forest Development Transportation System—Analysis of Public Comments: Final Scoping Report,” dated August 20, 1998. This report is available upon request from the Director, Ecosystem Management Coordination, Forest Service, USDA, P.O. Box 96090, Washington, DC 20090-6090 and at www.fs.fed.us/news/roads.

Proposed Road Management Strategy

The agency has identified three primary actions to help find an appropriate balance between safe and efficient access for all forest road users and protection of healthy ecosystems:

1. Develop new analytical tools to decide when—and if—both new and existing roads are needed to meet resource management objectives.

2. Aggressively decommission nonbeneficial or unauthorized roads that are determined through forest planning and NEPA and other analyses to be damaging to the environment or to be no longer necessary for achieving resource managing objectives.

3. Maintain and improve those important roads needed for recreation, rural access, and the sustainable flow of goods and services which do not compromise healthy lands and waters.

To achieve these objectives, the Forest Service is proposing revisions to the road system rules at 36 CFR part 212 and to Forest Service administrative directives governing transportation analysis and management.

Proposed Rule. The rules at 36 CFR part 212 govern administration of the forest transportation system. The rules address development of transportation programs, construction, maintenance, and management; ingress and egress; access procurement; and road-use restrictions.

To improve its road management, the Forest Service proposes to revise 36 CFR Part 212 to shift the emphasis from transportation development to managing environmentally sound access. This shift requires clarification of terminology associated with managing the transportation system. The proposed revision reflects changes in public opinion, demand, and use of National Forest resources and increased understanding and knowledge about the adverse environmental impacts of road construction, reconstruction, and the lack of maintenance. The proposed revision of Part 212 shifts the focus of road management from development and construction of new roads to restoring and maintaining those roads needed to meet resource objectives, as identified through land and resource management planning, and decommissioning unneeded roads. The proposed rule also includes a requirement to use a science-based transportation analysis to identify the minimum Forest Service road system needed for administration, utilization, and protection of National Forest System lands and resources, while providing safe and efficient travel and minimizing adverse environmental effects. This analysis is necessary to identify and objectively consider the environmental, social, and economic impacts of proposed road construction, reconstruction, and decommissioning at multiple scales in the context of realistic funding expectations. The information derived from this analysis will also help National Forest System managers to more strategically address priority transportation issues.

The notice of proposed rulemaking is published separately in this part of today's Federal Register.

Proposed Revisions to Forest Service Manual. In addition to the proposed rule changes, the Forest Service has identified several areas that require revision to its administrative direction on roads in Forest Service Manual (FSM) Title 7700—Transportation system and Chapter 1920—Land and Resource Planning. These changes would clarify terminology and direction to provide the minimum forest transportation system for administration, protection, and use within a context of minimizing adverse environmental impacts and restoring healthy ecosystems. These proposed changes would require a comprehensive transportation system inventory and incorporate a science-based, multiple-scale transportation analysis into the forest planning process. The inventory and analysis will allow more careful consideration of decisions to construct new roads or decommission old ones. The proposed changes emphasize maintenance of needed roads and decommissioning of unneeded roads. The policy also provides for additional consideration and protection of unroaded area values in the land and resource planning management process.

The notice of the proposed revisions to FSM 7700 and 1920 are published separately elsewhere in this part of today's Federal Register.

New Analysis Process

The Forest Service must balance the need for agency and public access against the environmental costs associated with road construction and reconstruction. To accomplish this, Forest Service researchers and resource specialists have developed an integrated, science-based roads analysis process that allows objective evaluation of the environmental, social, and economic impacts of proposed road construction, reconstruction, maintenance, and decommissioning.

A science-based road analysis process recently developed and tested by the Forest Service is entitled Roads Analysis: Informing Decisions About Managing the National Forest Transportation System (USDA Forest Service, 1999, Misc. Rep. FS-643).

This road analysis processs comprises six steps aimed at producing needed information and maps. The steps are as follows:

• Step 1—Setting up the analysis.

• Step 2—Describing the Situation, i.e., the existing road system in relation to current forest plan direction.

• Step 3—Identifying issues.

• Step 4—Assessing benefits, problems, and risks.

• Step 5—Describing management opportunities, establishing priorities, and formulating technical recommendations that respond to issues and effects.

• Step 6—Reporting, which includes maps and supporting information important for making decisions about future characteristics of the road system and changes to forest plans.

The road analysis neither makes decisions nor allocates lands for specific purposes. Rather, the new science-based road analysis identifies and addresses a set of possible issues and applicable analysis questions that, when answered, produce information for forest line officer consideration about possible road construction, reconstruction, and decommissioning needs and opportunities. The road analysis process examines issues at various scales, is flexible, and is driven by road issues important to the public and to managers.

This report is available from Publications Distribution, Rocky Mountain Research Station, 3825 E. Mulberry Street, Fort Collins, CO 80524-8597; rschneider/rmrs@fs.fed.us or www.fs.fed.us/news/roads/roadsanalysis.htm. Other National Forest transportation system research efforts are also available at www.fs.fed.us/news/roads.

Conclusion

Implementing this proposed road management strategy would improve service to users, protect environmental values, enhance public safety, mitigate environmental impacts, promote viable local communities, and boost credibility of our natural resource management. Reviewers are asked to review the proposed rule and proposed policy which follow and to provide the agency with comments. A table follows as Appendix B which may help reviewers understand the overall strategy and how the proposed rule and proposed policy relate.

Dated: February 25, 2000.
Mike Dombeck,
Chief.

Appendix A—Forest Service Road System Facts

1. The forest transportation system is extensive and diverse; it includes an estimated 380,000 miles of Forest Service roads. Public roads, such as State and county roads, and private roads maintained by others on National Forest System lands, also exist.

a. Approximately one-fourth (22 percent) of all Forest Service roads serve passenger car use.

b. Over one-half (55 percent) of all Forest Service roads are maintained for high-clearance vehicle use.

c. Approximately one-fourth (23 percent) of all Forest Service roads are closed to highway use by the public. Closed roads may be used for a variety of recreation uses, and for forest administration and protection.

d. Currently, Forest Service inventories have identified at least 60,000 miles of unclassified roads including temporary roads and roads that were never planned, built, or maintained to safety, service, and environmental standards. It is anticipated that future inventories will verify the existence of substantially more miles of unclassified roads.

e. More than 7,000 bridges on Forest Service roads exist; three-fourths of these are on the roads serving passenger car use.

f. In 1998, new construction of Forest Service roads was 215 miles or .06 percent of the total Forest Service road system. New construction has trended downward annually from 2,310 miles in 1988.

2. While a significant portion of the 192 million acres of the National Forest System is roaded, a significant and ecologically critical portion remains unroaded.

a. Some 34.7 million acres are currently designated as wilderness; approximately 6 million acres were proposed for wilderness designation in forest plans.

b. The National Forest System has an estimated 50 million acres of roadless Areas are inventoried through national roadless area review in the 1970's (RARE II) or through subsequent regional and local forest planning activities.

3. Current funding is inadequate to maintain all the existing roads to intended safety, service, and environmental standards to permit efficient and safe use, while mitigating adverse environmental impacts.

a. The Forest Service has available only about 20 percent of funds necessary to fully maintain Forest Service roads to intended safety, service, and environmental standards. As a result, roads not fully maintained become restricted to use by high clearance vehicles or are gated.

b. The backlog of deferred road maintenance and reconstruction needs on Forest Service roads is $8.4 billion. This backlog is due to the age of the arterial and collector roads (three-fourths are over 50-years old), heavy use, and the lack of regular maintenance.

c. From 1991 to 1997, the Forest Service decommissioned an average of 2,700 miles of roads per year.

BILLING CODE 3410-11-U

[FR Doc. 00-5002 Filed 3-2-00; 8:45 am]

BILLING CODE 3410-11-C